DEPARTMENT OF STATE

[Public Notice: 11824 ]

Notification of the Fifteenth Meeting of the CAFTA-DR Environmental Affairs Council

ACTION: Notice of the fifteenth meeting of the Dominican Republic-Central America-United States Free Trade Agreement (CAFTA-DR) Environmental Affairs Council and request for comments; invitation to public session.

SUMMARY: The Department of State and the Office of the United States Trade Representative (USTR) are providing notice that the parties to CAFTA-DR intend to hold the fifteenth meeting of the Environmental Affairs Council (the Council) established under Chapter 17 (Environment Chapter) of that agreement on October 6-7, 2022, in Washington, DC. The Department of State and USTR also invite written comments or questions regarding implementation of Chapter 17 and any topics that should be discussed at the Council meeting consistent with its purpose. When preparing comments, we encourage submitters to refer to Chapter 17 of the CAFTA-DR and to the CAFTA-DR Environmental Cooperation Agreement (ECA) (documents available at https://www.state.gov/key-topics-office-of-environmental-quality-and-transboundary-issues/current-trade-agreements-with-environmental-chapters/#cafta-dr and https://ustr.gov/issue-areas/environment/bilateral-and-regional-trade-agreements). Instructions on how to submit comments are under the heading ADDRESSES.

DATES: The public session of the Council will be held on October 7, 2022, from 9 a.m. to 12 p.m. EDT in Washington, DC. Please contact Bradley Blecker and Sigrid Simpson for the location of this meeting in Washington, DC or to request a link to join virtually. Addresses and confirmations of attendance and comments and suggestions are requested in writing no later than October 2, 2022.

ADDRESSES: Written comments or suggestions should be submitted to both:

(1) Bradley Blecker, U.S. Department of State, Bureau of Oceans and International Environmental and Scientific Affairs, Office of Environmental Quality, by email to BleckerBT@state.gov with the subject line “CAFTA-DR EAC Meeting”; and

(2) Sigrid Simpson, Director for Environment and Natural Resources, Office of the United States Trade Representative, by email to Sigrid.A.Simpson@ustr.eop.gov with the subject line “CAFTA-DR EAC Meeting”.

If you have access to the internet, you can view and comment on this notice by going to: http://www.regulations.gov/#!home and searching for docket number DOS-2022-0024.

FOR FURTHER INFORMATION CONTACT: Bradley Blecker, (202) 394-3316, or Sigrid Simpson, (202) 881-6592.

SUPPLEMENTARY INFORMATION: Article 17.5 of the CAFTA-DR establishes an Environmental Affairs Council (the Council) and provides that, unless the CAFTA-DR parties otherwise agree, the Council will meet annually to oversee the implementation of, and review progress under, Chapter 17, and to consider the status of cooperation activities developed under the ECA. Article 17.5 further requires that, unless the parties otherwise agree, each meeting of the Council include a session in which members of the Council have an opportunity to meet with the public to discuss matters relating to the implementation of Chapter 17.

On October 6, the Council will meet in a closed government-to-government session to (1) review implementation of the Environment Chapter, including by highlighting increased levels of environmental protection, environmental enforcement, and related achievements in the past year, with a focus on wildlife trafficking, illegal logging and deforestation, and climate change and clean technologies; (2) discuss efforts to tackle the climate crisis, combat illegal, unreported, and unregulated (IUU) fishing, and end plastic pollution; (3) receive a report from the CAFTA-DR Secretariat for Environmental Matters on the status of public submissions; and (4) review activities under the CAFTA-DR Environmental Cooperation Program and possible cooperation for the future.

The Council invites all interested persons to attend a public session on Chapter 17 implementation, beginning at 9:00 a.m. EDT on October 7. At the session, the Council will welcome questions, input, and information about challenges and achievements in implementation of the Environment Chapter obligations and the related ECA. If you would like to attend in Washington, DC or connect virtually to the public session, please notify Bradley Blecker and Sigrid Simpson at the email addresses listed under the heading ADDRESSES. Please include your full name and identify any organization or group you represent.

Visit the State website at www.state.gov and the USTR website at www.ustr.gov for more information.

Sherry Zalika Sykes,
Director, Office of Environmental Quality, U.S. Department of State.

[FR Doc. 2022-17653 Filed 8-16-22; 8:45 am]

BILLING CODE 4710-09-P